DEPARTMENT OF HEALTH AND HUMAN SERVICES

Food and Drug Administration

[Docket No. FDA-2014-N-1732]

Food Advisory Committee; Notice of Meeting; Amendment of Notice

AGENCY: Food and Drug Administration, HHS.

ACTION: Notice.

SUMMARY: The Food and Drug Administration (FDA) is announcing an amendment to the notice of the meeting of the Food Advisory Committee. This meeting was announced in the Federal Register of August 19, 2014. The amendment is being made to add an ADDRESSES section and to reflect a change in the Agenda. There are no other changes.

FOR FURTHER INFORMATION CONTACT: Karen Strambler, Center for Food Safety and Applied Nutrition, Food and Drug Administration, 5100 Paint Branch Pkwy., College Park, MD 20740, 240-402-2589, FAX: 301-436-2637, email: FoodAdvisoryCommittee@fda.hhs.gov, or FDA Advisory Committee Information Line, 1-800-741-8138 (301-443-0572 in the Washington, DC area) and follow the prompts to the desired Center or product area. Please call the Information Line for up-to-date information on this meeting.

SUPPLEMENTARY INFORMATION: In the Federal Register of August 19, 2014 (79 FR 49091), FDA announced that a meeting of the Food Advisory Committee would be held on December 16-17, 2014. The ADDRESSES portion of the document is to read as follows:

ADDRESSES: FDA is opening a docket for public comment on this meeting. The docket will open for public comment on November 13, 2014. The docket will close on January 15, 2014. Interested persons may submit either electronic comments regarding this meeting to http://www.regulations.gov or written comments to the Division of Dockets Management (HFA-305), Food and Drug Administration, 5630 Fishers Lane, Rm. 1061, Rockville, MD 20852. It is only necessary to send one set of comments. Identify comments with the docket number found in brackets in the heading of this document. Received comments may be seen in the Division of Dockets Management between 9 a.m. and 4 p.m., Monday through Friday, and will be posted to the docket at http://www.regulations.gov. All comments received will be posted without changes, including any personal information provided. Comments received on or before December 1, 2014, will be provided to the committee before the meeting.

On page 49091, in the second column, the Agenda portion of the document is changed to read as follows:

Agenda: The committee will discuss how risk assessments should account for the susceptibility to the effects of a particular chemical exposure because of factors such as genetics, age, sex, and health status and the circumstances under which FDA would decide to conduct a separate risk assessment for these groups.

This notice is issued under the Federal Advisory Committee Act (5 U.S.C. app. 2) and 21 CFR part 14, relating to the advisory committees.

Dated: November 7, 2014.
Jill Hartzler Warner,
Associate Commissioner for Special Medical Programs.

[FR Doc. 2014-26823 Filed 11-12-14; 8:45 am]

BILLING CODE 4164-01-P